FEDERAL ELECTION COMMISSION

Sunshine Act Meeting

AGENCY: Federal Election Commission

DATE & TIME: Tuesday, December 14, 2004 at 10 a.m.

PLACE: 999 E Street, NW., Washington, DC.

STATUS: This meeting will be closed to the public.

ITEMS TO BE DISCUSSED: Compliance matters pursuant to 2 U.S.C. 437g.

Audits conducted pursuant to 2 U.S.C. 437g, section 438(b), and Title 26, U.S.C.

Matters concerning participation in civil actions or proceedings or arbitration.

Internal personnel rules and procedures or matters affecting a particular employee.

* * * * *

DATE & TIME: Thursday, December 16, 2004 at 10 a.m.

PLACE: 999 E Street, NW., Washington, DC (Ninth Floor).

STATUS: This meeting will be open to the public.

ITEMS TO BE DISCUSSED: Correction and Approval of Minutes.

Merit and Service Awards.

Election of Officers.

Draft Advisory Opinion 2004-41: CUNA Mutual Insurance Society, by counsel Cleta Mitchell.

Draft Advisory Opinion 2004-42: Pharmavite LLC, by counsel Robert K. Kelner.

Draft Advisory Opinion 2004-43: Missouri Broadcasters Association, by counsel Gregg P. Skall.

Draft Notice of Proposed Rulemaking on Overnight Mail.

Draft Notice of Proposed Rulemaking on Payroll Deductions.

Routine Administrative Matters.

PERSON TO CONTACT FOR INFORMATION: Mr. Robert Biersack, Press Officer, Telephone: (202) 694-1220.

Mary W. Dove,
Secretary of the Commission.

[FR Doc. 04-27184 Filed 12-7-04; 3:12 pm]

BILLING CODE 6715-01-M